DEPARTMENT OF TRANSPORTATION

Federal Aviation Administration

Issuance of Supplemental Record of Approval of Newark Liberty International Airport (EWR) Noise Compatibility Program

AGENCY: Federal Aviation Administration, DOT.

ACTION: Notice of supplemental approval of the Newark Liberty International Airport (EWR) noise compatibility program.

SUMMARY: The Federal Aviation Administration (FAA) announces additional findings for the noise compatibility program submitted by the Port Authority of New York and New Jersey for EWR, see SUPPLEMENTARY INFORMATION for details. On January 15, 2019, the FAA determined that the noise exposure maps submitted for EWR were in compliance with applicable requirements. On August 19, 2022, the FAA determined that the noise compatibility program submitted for EWR would be initiating final review for approval or disapproval. On February 15, 2023, the FAA approved the EWR noise compatibility program with the issuance of a Record of Approval. The noise compatibility program contained 28 recommended measures, including 13 noise abatement measures, three land use measures, and 12 program management measures. Of the measures proposed, 15 were approved, two were approved as voluntary, two were partially approved as voluntary and partially disapproved, five were disapproved, and one was determined to have no FAA action as continuations of existing mandatory practices at EWR. Three measures contained in the noise compatibility program were noise abatement procedures that required additional consultation with the FAA Air Traffic Organization. Additionally, following issuance of the Record of Approval on February 15, 2023, the Port Authority requested that the FAA revisit the decision for Noise Abatement Measure 6, indicating that the rationale for disapproval originally provided contained an error. On August 14, 2023, the FAA issued a Supplemental Record of Approval for the EWR noise compatibility program regarding these four noise abatement measures. The Supplemental Record of Approval disapproves the three measures upon which No Action was taken with the February 15, 2023 Record of Approval and revises the decision on Noise Abatement Measure 6 from disapproved to approved.

DATES: The effective date of the FAA's Supplemental Record of Approval of the EWR noise compatibility program is August 14, 2023.

FOR FURTHER INFORMATION CONTACT: Andrew Brooks, Regional Environmental Program Manager, Airports Division, Federal Aviation Administration, 1 Aviation Plaza, Room 516, Jamaica, NY 11434. Phone Number: 718-553-2511.

SUPPLEMENTARY INFORMATION: This notice announces FAA's issuance of a Supplemental Record of Approval (ROA) of the EWR noise compatibility program (NCP), effective on August 14, 2023. Per United States Code section 47504 (49 U.S.C. 47504) and title 14, Code of Federal Regulations (CFR) part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airports recommendations in their NCP are made in accordance with the requirements and standards pursuant to 49 U.S.C. 47504 and 14 CFR part 150, which is limited to the following determinations:

a. The NCP was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of FAA's approval of NCPs are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the noise compatibility program nor a determination that all measures covered by the NCP are eligible for grant-in-aid funding from the FAA. Where federal funding is sought, requests must be submitted to the FAA New York Airports District Office at 1 Aviation Plaza, Room 111, Jamaica, New York 11434.

The Port Authority submitted the EWR NEMs, descriptions, and other documentation produced during the noise compatibility planning study to the FAA and the FAA determined that the EWR NEMs were in compliance with applicable requirements under 14 CFR 150, effective January 15, 2019 (Noise Exposure Map Notice for Newark Liberty International Airport, Newark, New Jersey, volume 84, Federal Register, pages 27183-4, June 11, 2019). The FAA formally received the NCP based on the accepted NEMs for EWR on August 8, 2022. The Port Authority requested that the FAA review the submitted material and that the noise mitigation measures, to be implemented jointly by the Port Authority and surrounding communities, be approved as a NCP. The formal review period, limited by law to a maximum of 180 days with the exception of noise abatement procedures, was initiated on August 19, 2022. Notice of the intent to review the NCP was published in the Federal Register on August 24, 2022 (Notice of Receipt and Request for Review of Noise Compatibility Program, volume 87, Federal Register, page 52105, August 24, 2022). That Federal Register Notice also announced the start of a 60-day period of public review for the NCP documentation. The FAA received no comments from interested parties during the public review period.

The EWR NCP is comprised of actions designed for phased implementation by Port Authority and adjacent jurisdictions within the next one to five years. FAA evaluated and approved this material as a noise compatibility program as described in 49 U.S.C. 47504. The submitted NCP contained 28 proposed measures to minimize impacts of aviation noise on and off the airport. The FAA completed its review and determined that the procedural and substantive requirements of the 49 U.S.C. 47504 and 14 CFR part 150 were satisfied. A ROA for the overall program was issued by the FAA effective February 15, 2023 (Approval of Newark Liberty International Airport (EWR) Noise Compatibility Program, volume 88, Federal Register, pages 10617-9, February 21, 2023). The individual determinations for the specific program elements from the ROA issued February 15, 2023 that are the subject of the Supplemental ROA were:

Noise Abatement Measure 2: Continue Use of Easterly Departure Headings on Runways 4L and 4R—No Action Required at This Time. This measure relates to flight procedures under title 49 U.S.C. 47504(b). In accordance with 14 CFR part 150.35(a), additional coordination will be occurring with the Air Traffic Organization and a Supplemental Record of Approval with FAA's final decision on this proposed measure will be issued on or before August 14, 2023.

Noise Abatement Measure 4: Determine and Implement Optimal Easterly Departure Headings on Runways 4L and 4R—No Action Required at This Time. This measure relates to flight procedures under Title 49 U.S.C. 47504(b). In accordance with 14 CFR part 150.35(a), additional coordination will be occurring with the Air Traffic Organization and a Supplemental Record of Approval with FAA's final decision on this proposed measure will be issued on or before August 14, 2023.

Noise Abatement Measure 6: Encourage Use of FAA-prescribed Distant Noise Abatement Departure Profile Procedures on a Voluntary Basis—Disapproved for Purposes of part 150.

Noise Abatement Measure 12: Implement Nighttime “New Jersey Turnpike” Departure Procedures for Runways 22L and 22R—No Action Required at This Time. This measure relates to flight procedures under Title 49 U.S.C. 47504(b). In accordance with 14 CFR part 150.35(a), additional coordination will be occurring with the Air Traffic Organization and a Supplemental Record of Approval with FAA's final decision on this proposed measure will be issued on or before August 14, 2023.

Consultation with the FAA's Air Traffic Organization was conducted for the three Noise Abatement Measures (Measures 2, 4, and 12) identified as requiring additional review. The Supplemental ROA includes decisions on these three measures. Additionally, following issuance of the ROA on February 15, 2023, the Port Authority requested that the FAA revisit the decision for Noise Abatement Measure 6, indicating that the rationale for disapproval of the proposed Noise Abatement Departure Procedures (NADP) originally provided contained an error. The ROA stated that “Documentation provided in support of this measure by the Port Authority did not include analysis comparing implementation of the measure to the accepted EWR NEM, rather it included a comparative analysis of implementation of potential NADP 1 and NADP 2 procedures at EWR.” After review, the FAA determined that this was an oversight due to a differing approach in analysis used at EWR in comparison to that done for the recently approved NCP for LaGuardia Airport and that the EWR NCP documentation did include the required analysis. This Supplemental ROA also includes a revised decision on this measure. The specific program elements within the Supplemental ROA and their individual determinations are as follows:

Noise Abatement Measure 2: Disapproved.

Noise Abatement Measure 4: Disapproved.

Noise Abatement Measure 6: Encourage Use of FAA-prescribed Distant Noise Abatement Departure Profile Procedures on a Voluntary Basis—Approved as Voluntary.

Noise Abatement Measure 12: Implement Nighttime “New Jersey Turnpike” Departure Procedures for Runways 22L and 22R—Disapproved.

These determinations are set forth in detail in the Supplemental ROA signed by the FAA Airports Eastern Division Director on August 14, 2023. The Supplemental ROA pertains to the listed measures only, and does not change the decisions made by the FAA in the ROA for the NCP dated February 15, 2023 for the measures not contained within the Supplemental ROA. The Supplemental ROA, as well as other evaluation materials and the documents comprising the original submittal, are available for review at the FAA office listed above. The Supplemental ROA also will be available on the internet on the FAA's website at http://www.faa.gov/airports/environmental/airport_noise/part_150/states/ and the Port Authority of New York and New Jersey's website at http://panynjpart150.com/EWR_documents.asp.

Issued in Jamaica, NY, on August 16, 2023.
David A. Fish,
Director, Airports Division Eastern Region.

[FR Doc. 2023-17917 Filed 8-18-23; 8:45 am]

BILLING CODE 4910-13-P